DEPARTMENT OF ENERGY

Federal Energy Regulatory Commission

[Project No. 15381-000]

Preliminary Permit Application Accepted for Filing and Soliciting Comments, Motions To Intervene, and Competing Applications; Municipality of Skagway Borough

On November 13, 2024, the Municipality of Skagway Borough filed an application for a preliminary permit, pursuant to section 4(f) of the Federal Power Act (FPA), proposing to study the feasibility of the Burro Creek Hydroelectric Project (or Project) to be located on Burro Creek, two miles southwest of Skagway, Alaska. The sole purpose of a preliminary permit, if issued, is to grant the permit holder priority to file a license application during the permit term. A preliminary permit does not authorize the permit holder to perform any land-disturbing activities or otherwise enter upon lands or waters owned by others without the owners' express permission.

The proposed project would consist of the following: (1) a 100-foot-long, 10 foot-high reinforced concrete diversion dam; (2) a 0.5-acre impoundment with a normal surface elevation of approximately 1,160 feet above sea level; (3) a 12,300-foot-long, 2-foot-diameter penstock buried within an access road; (4) a 40-foot-long, 40-foot-wide powerhouse; (5) a 13,300-foot-long access road extending from the dam to tidewater at Burro Creek; (6) a 1,000-foot-long underground transmission line from powerhouse to tidewater; (7) a 2-mile-long submarine cable laid on the floor of Lynn Canal extending from tidewater to the Ore dock facility in Skagway; and (8) appurtenant facilities. The estimated annual generation of the Project would be 24,800 megawatt-hours.

Applicants Contact: Emily Deach, Municipality of Skagway, P.O. Box 415, Skagway, AK 99840, (907) 612-8247.

FERC Contact: Maryam Zavareh at Maryam.zavareh@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number.

More information about this project, including a copy of the application, can be viewed or printed on the “eLibrary” link of Commission's website at http://www.ferc.gov/docs-filing/elibrary.asp. Enter the docket number in the docket number field to access the document. For assistance, contact FERC Online Support.

Dated: November 21, 2024.
Debbie-Anne Reese,
Secretary.

[FR Doc. 2024-27965 Filed 11-27-24; 8:45 am]

BILLING CODE 6717-01-P